INTERIOR DEPARTMENT

National Indian Gaming Commission

Notice of Approved Class III Tribal Gaming Ordinance

AGENCY: National Indian Gaming Commission.

ACTION: Notice.

SUMMARY: The purpose of this notice is to inform the public of the approval of Leech Lake Band of Ojibwe (Band) Class III gaming ordinance by the Chairman of the National Indian Gaming Commission.

DATES: This notice is applicable June 13, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On May 22, 2023, the Chairman of the National Indian Gaming Commission approved Leech Lake Band of Ojibwe (Band) Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: June 8, 2023.
Rea Cisneros,
General Counsel (Acting).

May 22, 2023

VIA EMAIL

Faron Jackson, Sr., Chairman

Leech Lake Band of Ojibwe

190 Sailstar Drive NW

Cass Lake, MN 56633

Re: Leech Lake Band of Ojibwe Amended Gaming Ordinance

Dear Chairman Jackson:

This letter responds to your request of April 12, 2023 on behalf of the Leech Lake Band of Ojibwe (Band) for the National Indian Gaming Commission (NIGC) to review and approve amendments to the Band's Gaming Ordinance. The amended Gaming Ordinance was approved by the Reservation Business Committee in Resolution 2023-75 on April 6, 2023.

We understand that these amendments reflect changes in tribal law and ensure consistency with federal and state law as may be required by regulation or the Band's gaming compacts with the State of Minnesota. The amended ordinance appears to be a comprehensive update, with substantive changes made regarding key definitions, authorization of individually owned gaming and charitable gaming, restructuring of the Leech Lake Gaming Regulatory Authority, vendor and facility licensing, and licensing for key employees and primary management officials.

Thank you for bringing this ordinance amendment to our attention. The amended ordinance is approved as it is consistent with the requirements of the Indian Gaming Regulatory Act and NIGC regulations. If you have any questions or require anything further, please contact Logan Takao Cooper at (503) 318-7524 or Logan.Takao-Cooper@nigc.gov.

Sincerely,

E. Sequoyah Simermeyer,

Chairman

[FR Doc. 2023-12648 Filed 6-12-23; 8:45 am]

BILLING CODE 7565-01-P